ENVIRONMENTAL PROTECTION AGENCY

[FRL-7234-7]

Proposed Prospective Purchaser Agreement and Covenant Not to Sue Under the Comprehensive Environmental Response, Compensation, and Liability Act of 1980 Regarding the Roebling Steel Superfund Site, Roebling, NJ

AGENCY: Environmental Protection Agency.

ACTION: Notice of proposed prospective purchaser agreement and opportunity for public comment.

SUMMARY: The United States Environmental Protection Agency (“EPA”) is proposing to enter into an administrative settlement to resolve claims under the Comprehensive Environmental Response, Compensation, and Liability Act of 1980, as amended (“CERCLA”), 42 U.S.C. 9601 et seq. Notice is being published to inform the public of the proposed settlement and of the opportunity to comment. This settlement is intended to resolve a prospective lessee's liability for response costs incurred by EPA at the Roebling Steel Superfund Site in Roebling, New Jersey.

DATE: Comments must be provided on or before July 19, 2002.

ADDRESS: Comments should be addressed to the U.S. Environmental Protection Agency, Office of Regional Counsel, 290 Broadway—17th Floor, New York, New York 10007-1866 and should refer to: In the Matter of the Roebling Steel Superfund Site, U.S. EPA Region II Docket No. CERCLA-02-2001-2015.

FOR FURTHER INFORMATION: U.S. Environmental Protection Agency, Office of Regional Counsel, 290 Broadway—17th Floor, New York, New York 10007-1866, Attention: Deborah Mellott, Esq. (212) 637-3147.

SUPPLEMENTARY INFORMATION: In accordance with EPA guidance, notice is hereby given of a proposed administrative settlement concerning the Roebling Steel Superfund Site, located in Roebling, Burlington County, New Jersey. CERCLA provides EPA the authority to settle certain claims for response costs incurred by the United States with the approval of the Attorney General of the United States.

The proposed settlement provides that New Jersey Transit Corporation, an agency of the State of New Jersey, will perform work at the Roebling Steel Superfund Site in return for a covenant not sue under sections 106 or 107 of CERCLA from the United States.

A copy of the proposed administrative settlement agreement and covenant not to sue, as well as background information relating to the settlement, may be obtained in person or by mail from EPA's Region II Office of Regional Counsel, 290 Broadway—17th Floor, New York, New York 10007-1866.

Dated: May 14, 2002.
William J. Muszynski,
Deputy Regional Administrator, Region II.

[FR Doc. 02-15457 Filed 6-18-02; 8:45 am]

BILLING CODE 6560-50-U